DEPARTMENT OF AGRICULTURE

Submission for OMB Review; Comment Request; Correction

June 22, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Revisions of Fruits and Vegetables Import Regulations.

OMB Control Number: 0579-0293.

Summary of Collection: Under the Plant Protection Act (7 U.S.C. 7701 et seq.), the Secretary of Agriculture is authorized to carry out operations or measures to detect, eradicate, suppress, control, prevent, or retard the spread of plant pest not known to be widely distributed throughout the United States. The regulations contained in Title 7 of the Code of Federal Regulations, Part 319 (Subpart Fruits and Vegetables), Sections 319.56 through 319.56-47, implement the intent of the Act by prohibiting or restricting the importation of certain fruits and vegetables into the United States from certain parts of the world to prevent the introduction and dissemination of fruit flies and other injurious plant pests that are new to the United States or not widely distributed within the United States.

Need and Use of the Information: The Animal and Plant Health Inspection Service (APHIS) will collect information using PPQ form 587 to collect the following information: (1) Country or locality of origin of the fruits or vegetables, (2) the anticipated port of first arrival, (3) the name and address of the importer in the United States, (4) the identity (scientific name preferred), and (5) quantity of the fruit and vegetable. Also, all imported fruits and vegetables are subject to inspection and have a phytosanitary certificate issued by an official of the National Plant Protection Organization of the exporting country certifying that treatment was applied in accordance with APHIS regulations.

Description of Respondents: Business or other for-profit; Not-for-profit institutions.

Number of Respondents: 1,120.

Frequency of Responses: Reporting: On occasion.

Total Burden Hours: 2,768.

Ruth Brown,
Departmental Information Collection Clearance Officer.

[FR Doc. E9-15052 Filed 6-25-09; 8:45 am]

BILLING CODE 3410-34-P